DEPARTMENT OF HEALTH AND HUMAN SERVICES

Centers for Disease Control and Prevention

[30Day-10-0780]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

National Survey of Residential Care Facilities (NSRCF) (OMB No. 0920-0780)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, “shall collect statistics on health resources * * * [and] utilization of health care, including extended care facilities, and other institutions.”

In 2008, NCHS sought approval for a pretest and full survey of The National Survey of Residential Care Facilities (NSRCF). OMB approved only the pretest which has been completed. NCHS now seeks approval to collect the full survey. The survey is designed to complement data collected by other Federal surveys and to fill a significant data gap about a major portion of the long-term care population. Data from NSRCF will provide information on residential care facilities that policymakers, providers, and researchers can use to address a wide array of policy and research questions. The survey will utilize a computer-assisted personal interviewing (CAPI) system to collect information about facility and resident characteristics. This computerized system speeds the flow of data; making it possible to release information on a timely basis and easier for respondents to participate in the survey. The CAPI system may also enhance data quality. Clearance for two years is being requested.

A stratified random sample of residential care facilities across four strata (small, medium, large and very large) will be selected to participate in NSRCF. To be eligible a facility must be licensed, registered, listed, certified, or otherwise regulated by the State; provide room and board with at least two meals a day; provide around-the-clock on-site supervision; assist with activities of daily living (e.g., bathing, eating, or dressing) or medication supervision; serve a primarily adult population; and have at least four beds.

The facility questionnaire will collect data about facility characteristics (e.g., size, age, types of rooms), services offered, characteristics of the resident population, facility policies and services, charges for services, and background of the director. The resident questionnaire collects information on resident demographics, current living arrangements within the facility, involvement in activities, use of services, charges for care, health status, and cognitive and physical functioning.

For the national survey, approximately 2,250 facilities will be surveyed for an annual average of 1,125 facilities; information on an average of 4 residents will be collected from the annual average facility staff. Residents themselves will not be interviewed.

Users of NSRCF data include, but are not limited to CDC; other Department of Health and Human Services (DHHS) agencies, such as the Office of the Assistant Secretary for Planning and Evaluation and the Agency for Healthcare Research and Quality; and associations, such as the American Association of Homes and Services for the Aging, National Center for Assisted Living, American Seniors Housing Association, Assisted Living Federation of America; universities; foundations; and other private sector organizations. There is no cost to respondents other than their time to participate. The total estimated annualized burden hours are 3,572.

Table 1—Estimated Annualized Burden Hours
Type of respondent | Name of form | Number of respondents | Number of responses/ respondent | Average burden/ response (in hours)
Facility Director | Facility Screener | 1,125 | 1 | 10/60
Facility Director | Resident Selection | 1,125 | 1 | 10/60
Facility Director | Pre-Interview Worksheet | 1,125 | 1 | 15/60
Facility Director | Facility Questionnaire | 1,125 | 1 | 1.25
Facility Director or Staff Member | Resident Questionnaire | 1,125 | 4 | 20/60
Facility Director | Verification Form | 113 | 1 | 5/60

Dated: October 8, 2009.
Maryam I. Daneshvar,
Acting Reports Clearance Officer, Office of the Chief Science Officer, Centers for Disease Control and Prevention.

[FR Doc. E9-24944 Filed 10-15-09; 8:45 am]

BILLING CODE 4163-18-P